DEPARTMENT OF TRANSPORTATION

Federal Aviation Administration

14 CFR Part 97

[Docket No. 30306; Amdt. No. 3003]

Standard Instrument Approach Procedures; Miscellaneous Amendments

AGENCY: Federal Aviation Administration (FAA), DOT.

ACTION: Final rule.

SUMMARY: This amendment establishes, amends, suspends, or revokes Standard Instrument Approach Procedures (SIAPs) for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: An effective date for each SIAP is specified in the amendatory provisions.

Incorporation by reference—approved by the Director of the Federal Register on December 31, 1980, and reapproved as of January 1, 1982.

ADDRESSES: Availability of matters incorporated by reference in the amendment is as follows:

For Examination—

1. FAA Rules Docket, FAA Headquarters Building, 800 Independence Avenue, SW., Washington, DC 20591;

2. The FAA Regional Office of the region in which the affected airport is located; or

3. The Flight Inspection Area Office which originated the SIAP.

For Purchase—Individual SIAP copies may be obtained from:

1. FAA Public Inquiry Center (APA-200), FAA Headquarters Building, 800 Independence Avenue, SW., Washington, DC 20591; or

2. The FAA Regional Office of the region in which the affected airport is located.

By Subscription—Copies of all SIAPs, mailed once every 2 weeks, are for sale by the Superintendent of Documents, U.S. Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd. Oklahoma City, OK. 73169 (Mail Address: P.O. Box 25082 Oklahoma City, OK. 73125) telephone: (405) 954-4164.

SUPPLEMENTARY INFORMATION: This amendment to part 97 of the Federal Aviation Regulations (14 CFR part 97) establishes, amends, suspends, or revokes Standard Instrument Approach Procedures (SIAPs). The complete regulatory description of each SIAP is contained in official FAA form documents which are incorporated by reference in this amendment under 5 U.S.C. 552(a), 1 CFR part 51, and § 97.20 of the Federal Aviation Regulations (FAR). The applicable FAA Forms are identified as FAA Forms 8260-3, 8260-4, and 8260-5. Materials incorporated by reference are available for examination or purchase as stated above.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. The provisions of this amendment state the affected CFR (and FAR) sections, with the types and effective dates of the SIAPs. This amendment also identifies the airport, its location, the procedure identification and the amendment number.

The Rule

This amendment to part 97 is effective upon publication of each separate SIAP as contained in the transmittal. Some SIAP amendments may have been previously issued by the FAA in a National Flight Data Center (NFDC) Notice to Airmen (NOTAM) as an emergency action of immediate flight safety relating directly to published aeronautical charts. The circumstances which created the need for some SIAP amendments may require making them effective in less than 30 days. For the remaining SIAPs, an effective date at least 30 days after publication is provided.

Further, the SIAPs contained in this amendment are based on the criteria contained in the U.S. Standard for Terminal Instrument Procedures (TERPS). In developing these SIAPs, the TERPS criteria were applied to the conditions existing or anticipated at the affected airports. Because of the close and immediate relationship between these SIAPs and safety in air commerce, I find that notice and public procedure before adopting these SIAPs are impracticable and contrary to the public interest and, where applicable, that good cause exists for making some SIAPs effective in less than 30 days.

Conclusion

The FAA has determined that this regulation only involves an established body of technical regulations for which frequent and routine amendments are necessary to keep them operationally current. It, therefore—(1) Is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Navigation (air).

Issued in Washington, DC, on April 26, 2002.
James J. Ballough,
Director, Flight Standards Service.

Adoption of the Amendment

Accordingly, pursuant to the authority delegated to me, part 97 of the Federal Aviation Regulations (14 CFR part 97) is amended by establishing, amending, suspending, or revoking Standard Instrument Approach Procedures, effective at 0901 UTC on the dates specified, as follows:

PART 97—STANDARD INSTRUMENT APPROACH PROCEDURES

1. The authority citation for part 97 is revised to read as follows:

Authority: 49 U.S.C. 106(g), 40103, 40113, 40120, 44701; and 14 CFR 11.49(b)(2).

2. Part 97 is amended to read as follows:

§§ 97.23, 97.25, 97.29, 97.31, 97.33, and 97.35 [Amended]

By amending: § 97.23 VOR, VOR/DME, VOR or TACAN, and VOR/DME or TACAN; § 97.25 LOC, LOC/DME, LDA, LDA/DME, SDF, SDF/DME; § 97.27 NDB, NDB/DME; § 97.29 ILS, ILS/DME, ISMLS, MLS, MLS/DME, MLS/RNAV; § 97.31 RADAR SIAPs; § 97.33 RNAV SIAPs; and § 97.35 COPTER SIAPs, identified as follows:

. . . Effective June 13, 2002

Anchorage, AK, Ted Stevens Anchorage Intl, ILS RWY 14, Amdt 3

Anchorage, AK, Ted Stevens Anchorage Intl, RNAV (GPS) RWY 14, Orig

Anchorage, AK, Ted Stevens Anchorage Intl, GPS RWY 14, Amdt 1A, CANCELLED

Reform, AL, North Pickens, RNAV (GPS) RWY 19, Orig

Covington/Cincinnati, OH/KY, Cincinnati/Northern Kentucky Intl, NDB RWY 9, Amdt 15

Covington/Cincinnati, OH/KY, Cincinnati/Northern Kentucky Intl, ILS RWY 18L, Amdt 5

Covington/Cincinnati, OH/KY, Cincinnati/Northern Kentucky Intl, ILS RWY 18R, Amdt 20

Covington/Cincinnati, OH/KY, Cincinnati/Northern Kentucky Intl, ILS RWY 36L, Amdt 39

Covington/Cincinnati, OH/KY, Cincinnati/Northern Kentucky Intl, ILS RWY 36R, Amdt 6

Covington/Cincinnati, OH/KY, Cincinnati/Northern Kentucky Intl, RNAV (GPS) RWY 9, Orig

Covington/Cincinnati, OH/KY, Cincinnati/Northern Kentucky Intl, RNAV (GPS) RWY 36L, Orig

Covington/Cincinnati, OH/KY, Cincinnati/Northern Kentucky Intl, RNAV (GPS) RWY 36R, Orig

Covington/Cincinnati, OH/KY, Cincinnati/Northern Kentucky Intl, RNAV (GPS) RWY 18L, Orig

Covington/Cincinnati, OH/KY, Cincinnati/Northern Kentucky Intl, RNAV (GPS) RWY 18R, Orig

Easton, MD, Easton/Newnam Field, ILS RWY 4, Orig

Grand Rapids, MI, Gerald R. Ford Intl, NDB RWY 26L, Amdt 20A

Grand Rapids, MI, Gerald R. Ford Intl, RNAV (GPS) RWY 8R, Orig

Grand Rapids, MI, Gerald R. Ford Intl, RNAV (GPS) RWY 26L, Orig

Monroe City, MO, Monroe City Regional, RNAV (GPS) RWY 9, Orig

Monroe City, MO, Monroe City Regional, RNAV (GPS) RWY 27, Orig

Monroe City, MO, Monroe City Regional, VOR/DME-A, Amdt 2

Monroe City, MO, Monroe City Regional, VOR/DME RWY 27, Amdt 1

Monroe City, MO, Monroe City Regional, GPS RWY 27, Orig CANCELLED

McComb, MS, McComb, MS, McComb-Pike County-John E. Lewis Field, LOC RWY 15, Amdt 6A, CANCELLED

McComb, MS, McComb, MS, McComb-Pike County-John E. Lewis Field, ILS RWY 15, Orig

Grant, NE, Grant Muni, RNAV (GPS) RWY 15, Orig

Grant, NE, Grant Muni, RNAV (GPS) RWY 33, Orig

Grant, NE, Grant Muni, NDB RWY 15, Amdt 3

Grant, NE, Grant Muni, NDB RWY 33, Amdt 3

Columbus, OH, Darby Dan, NDB-A, Orig

Columbus, OH, Darby Dan, RNAV (GPS) RWY 9, Orig

Columbus, OH, Darby Dan, RNAV (GPS) RWY 27, Orig

Idabel, OK, Idabel, GPS RWY 17, Orig CANCELLED

Idabel, OK, Idabel, NDB RWY 17, Amdt 3 CANCELLED

Isla De Vieques, PR, Antonio Rivera Rodriguez, RNAV (GPS) RWY 9, Orig

Westerly, RI, Westerly State, LOC RWY 7, Amdt 6

Westerly, RI, Westerly State, RNAV (GPS) RWY 7, Orig

Westerly, RI, Westerly State, GPS RWY 7, Orig, CANCELLED

Nashville, TN, Nashville Intl, RNAV (GPS) RWY 2C, Orig

Nashville, TN, Nashville Intl, RNAV (GPS) RWY 2L, Orig

Nashville, TN, Nashville Intl, RNAV (GPS) RWY 2R, Orig

Nashville, TN, Nashville Intl, RNAV (GPS) RWY 13, Orig

Nashville, TN, Nashville Intl, RNAV (GPS) RWY 20L, Orig

Nashville, TN, Nashville Intl, RNAV (GPS) RWY 20R, Orig

Nashville, TN, Nashville Intl, RNAV (GPS) RWY 31, Orig

Richfield, UT, Richfield Muni, RNAV (GPS) RWY 19, Orig

Burlington, VT, Burlington Intl, RADAR-1, Amdt 5, CANCELLED

Springfield, VT, Hartness State (Springfield), NDB-A, Amdt 6

Springfield, VT, Hartness State (Springfield), RNAV (GPS) RWY 5, Orig

Mineral Point, WI, Iowa County, NDB RWY 22, Amdt 5

Mineral Point, WI, Iowa County, RNAV (GPS) RWY 4, Orig

Mineral Point, WI, Iowa County, RNAV (GPS) RWY 22, Orig

Mineral Point, WI, Iowa County, RNAV (GPS) RWY 11, Orig

Mineral Point, WI, Iowa County, RNAV (GPS) RWY 29, Orig

Mineral Point, WI, Iowa County, GPS RWY 4, Orig, CANCELLED

Cody, WY, Yellowstone Regional, RNAV (GPS) RWY 22, Orig

. . . Effective July 11, 2002

[FR Doc. 02-10939 Filed 5-1-02; 8:45 am]

BILLING CODE 4910-13-M